DEPARTMENT OF COMMERCE

International Trade Administration

[A-570-928]

Uncovered Innerspring Units From the People's Republic of China: Final Results of Antidumping Duty Administrative Review; 2012-2013

AGENCY: Enforcement and Compliance, International Trade Administration, Department of Commerce.

SUMMARY: On March 17, 2014, the Department of Commerce (“the Department”) published in the Federal Register the preliminary results of the administrative review of the antidumping duty order on uncovered innerspring units (“innersprings”) from the People's Republic of China (“PRC”) covering the period February 1, 2012, through January 31, 2013.¹ The Department gave interested parties an opportunity to comment on the Preliminary Results. Based on our analysis of these comments, our final determination remains unchanged from the Preliminary Results.

¹ See Uncovered Innerspring Units From the People's Republic of China: Antidumping Duty Administrative Review; 2012-2013, 79 FR 14666 (March 17, 2014) (“Preliminary Results”).

DATES: Effective Date: September 19, 2014

FOR FURTHER INFORMATION CONTACT: Steven Hampton, AD/CVD Operations, Office V, Enforcement and Compliance, International Trade Administration, U.S. Department of Commerce, 14th Street and Constitution Avenue NW., Washington, DC 20230; telephone: (202) 482-0116.

SUPPLEMENTARY INFORMATION:

Background

On March 17, 2014, the Department published the Preliminary Results in the Federal Register, and provided interested parties an opportunity to comment.² On April 16, 2014, the Department received a case brief from Leggett and Platt, Inc. (“Petitioner”).³ No other interested party filed case or rebuttal briefs.

² Id., 79 FR 14667.

³ See Fourth Administrative Review of the Antidumping Duty Order on Uncovered Innerspring Units From the People's Republic of China: Case Brief, dated April 16, 2014.

Scope of the Order

The merchandise subject to the order is uncovered innerspring units.⁴ The product is currently classified under subheading 9404.29.9010 and has also been classified under subheadings 9404.10.0000, 7326.20.0070, 7320.20.5010, 7320.90.5010, or 7326.20.0071 of the Harmonized Tariff Schedule of the United States (“HTSUS”). The HTSUS subheadings are provided for convenience and customs purposes only; the written product description of the scope of the order is dispositive.

⁴ See Memorandum to Paul Piquado, Assistant Secretary for Enforcement and Compliance, from Christian Marsh, Deputy Assistant Secretary for Antidumping and Countervailing Duty Operations, entitled “Uncovered Innerspring Units From the People's Republic of China: Issues and Decision Memorandum for the Final Results of the 2012-2013 Administrative Review,” which is dated concurrently with and hereby adopted by this notice (“Issues and Decision Memorandum”) for a complete description of the Scope of the Order.

Analysis of Comments Received

All issues raised in the case brief by Petitioner are addressed in the Issues and Decision Memorandum, which is incorporated herein by reference. A list of the issues which parties raised, and to which we respond in the Issues and Decision Memorandum, is attached to this notice as an Appendix. The Issues and Decision Memorandum is a public document and is on file electronically via Enforcement and Compliance's Antidumping and Countervailing Duty Centralized Electronic Service System (“IA ACCESS”). IA ACCESS is available to registered users at http://iaaccess.trade.gov, and it is available to all parties in the Central Records Unit, room 7046 of the main Department of Commerce building. In addition, a complete version of the Issues and Decision Memorandum can be accessed directly on the internet at http://enforcement.trade.gov/frn/index.html. The signed Issues and Decision Memorandum and the electronic versions of the Issues Decision Memorandum are identical in content.

Use of Facts Available and Adverse Facts Available

As stated in the Preliminary Results, Goldon Bedding Manufacturing (M) Sdn Bhd (“Goldon”) and Ta Cheng Coconut Knitting Company Ltd. (“Ta Cheng”) each failed to cooperate to the best of their ability in providing requested information because they withheld requested information, failed to provide the information in a timely manner and in the form requested, and significantly impeded this proceeding.⁵ Accordingly, pursuant to sections 776(a)(2)(A), (B), and (C) and section 776(b) of the Tariff Act of 1930, as amended (“the Act”), we find it appropriate to assign to Goldon and Ta Cheng dumping margins of 234.51 percent based on total adverse facts available (“AFA”). Because Goldon is located in Malaysia and Ta Cheng is located in Taiwan, we are treating them as third-country resellers. Accordingly, this rate only applies to Goldon's and Ta Cheng's PRC-origin merchandise.⁶

⁵ See Preliminary Results, and accompanying Preliminary Decision Memorandum at 5-6.

⁶ See Issues and Decision Memorandum for further discussion of this issue.

Final Results of Review

The weighted-average dumping margins for the period February 1, 2012, through January 31, 2013, are as follows:

Exporter | Weighted-average dumping margin (percent)
Goldon Bedding Manufacturing (M) Sdn Bhd | 234.51
Ta Cheng Coconut Knitting Company Ltd. | 234.51

Assessment

Pursuant to section 751(a)(2)(A) of the Act and 19 CFR 351.212(b), the Department will determine, and U.S. Customs and Border Protection (“CBP”) shall assess, antidumping duties on all appropriate entries. The Department intends to issue assessment instructions to CBP 15 days after the date of publication of the final results of review in the Federal Register.

For Goldon and Ta Cheng, the Department will instruct CBP to assess antidumping duties on their entries of subject merchandise at the rate of 234.51 percent.

Cash Deposit Requirements

The following cash deposit requirements will be effective upon publication of the final results of this administrative review for all shipments of the subject merchandise from the PRC entered, or withdrawn from warehouse, for consumption on or after the publication date, as provided for by section 751(a)(2)(C) of the Act: (1) For the exporters listed above, the cash deposit rate will be 234.51 percent for their entries of subject (i.e., PRC-origin PSF) merchandise; (2) for previously investigated or reviewed PRC and non-PRC exporters not listed above that have a separate rate, the cash deposit rate will continue to be the exporter-specific rate published for the most recently completed segment of this proceeding; (3) for all PRC exporters of subject merchandise which have not been found to be entitled to a separate rate, the cash deposit rate will be that established for the PRC-wide entity of 234.51 percent; and (4) for all non-PRC exporters of subject merchandise which have not received their own rate, the cash deposit rate will be the rate applicable to the PRC exporter that supplied that non-PRC exporter with the subject merchandise. The deposit requirements, when imposed, shall remain in effect until further notice.

Reimbursement of Duties

This notice also serves as a final reminder to importers of their responsibility under 19 CFR 351.402(f)(2) to file a certificate regarding the reimbursement of antidumping duties prior to liquidation of the relevant entries during this period of review. Failure to comply with this requirement could result in the Department's presumption that reimbursement of antidumping duties occurred and the subsequent assessment of doubled antidumping duties.

Administrative Protective Orders

In accordance with 19 CFR 351.305(a)(3), this notice also serves as a reminder to parties subject to administrative protective order (“APO”) of their responsibility concerning the return or destruction of proprietary information disclosed under APO, which continues to govern business proprietary information in this segment of the proceeding. Timely written notification of the return or destruction of APO materials, or conversion to judicial protective order, is hereby requested. Failure to comply with the regulations and terms of an APO is a violation which is subject to sanction.

Notification to Interested Parties

We are issuing and publishing this administrative review and notice in accordance with sections 751(a)(1) and 777(i) of the Act.

Dated: September 12, 2014.
Paul Piquado,
Assistant Secretary for Enforcement and Compliance.

Appendix

List of Topics Discussed in the Final Decision Memorandum

1. Summary

2. Background

3. Scope of the Order

4. Discussion of the Issue

5. Recommendation

[FR Doc. 2014-22419 Filed 9-18-14; 8:45 am]

BILLING CODE 3510-DS-P